DEPARTMENT OF HEALTH AND HUMAN SERVICES

Administration for Community Living

Agency Information Collection Activities: Proposed Collection; Public Comment Request; ACL Generic for Administration on Aging Formula Grant Programs OMB Control Number 0985-New

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This new information collection solicits comments on the information collection requirements relating to the ACL Generic for Administration on Aging Formula Grant Programs.

DATES: Comments on the collection of information must be submitted electronically by 11:59 p.m. (EST) or postmarked by December 18, 2023.

ADDRESSES: Submit electronic comments on the collection of information to: Adam Mosey, Adam.Mosey@acl.hhs.gov. Submit written comments on the collection of information to Administration for Community Living, 330 C Street SW, Washington, DC 20201, Attention: Adam Mosey.

FOR FURTHER INFORMATION CONTACT: Adam Mosey (202) 795-7631 or Adam.Mosey@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including using automated collection techniques when appropriate, and other forms of information technology;

(5) ACL issued a Notice of Proposed Rulemaking (NPRM) to modify the implementing regulations of the Older Americans Act of 1965 (“the Act” or OAA) to add a new subpart (Subpart D) related to Adult Protective Services (APS) RIN 0985-AA18. 0985-New is referenced in 88 FR 62503 pages 62503-62522 published on September 12, 2023. Comments associated with this proposed Generic Information Collection (Gen IC) should be submitted separately to the above listed program contact.

As a unit of the Administration for Community Living, the Administration on Aging (AoA) provides expertise on program development, advocacy, and initiatives for older Americans and their caregivers and families. Working with State agencies, local agencies, grantees, and community providers, AoA directs programs authorized by the OAA, Elder Justice Act (EJA), and other legislation that supports older adults. Through these programs multi-year State Plans and assurances, and other financial forms are needed to provide approval and oversight of grant recipients.

ACL is seeking OMB approval to add a new Gen IC to ACL's Paperwork inventory. This Gen IC will cover AoA formula grant programs for State Plans on Aging and assurances, State Plans on Adult Protective Services and assurances, and other financial forms associated with Aging formula grant management. Adding a Gen IC will allow for the collection of data across programmatic and financial management of the Aging and APS formula grants.

Statutory Background

In 1965, Congress originally passed the Older Americans Act (OAA) in response to concerns by policymakers about a lack of community social services for older adults. The original legislation established authority for grants to States for community planning and social services, research and development projects, and personnel training in the field of aging. Changes to the OAA were made through the Supporting Older Americans Act of 2020 (Pub. L. 116-131). This legislation reauthorized the OAA and its programs from Federal fiscal year (FFY) 2020 through 2024. The OAA provides the foundation for the National aging Network, which includes the Administration on Aging (AoA), State Units on Aging (SUA), Area Agencies on Aging (AAA), tribal organizations, service providers, and volunteers. SUAs are an integral part of the network responsible for developing and administering a multi-year State plan that advocates for and aids older residents, their families, their caregivers, and, in many States, for adults with disabilities.

The Elder Justice Act, passed in 2010, is the first comprehensive legislation to address the abuse, neglect, and exploitation of older adults at the Federal level. The law authorized a variety of programs and initiatives to better coordinate Federal responses to elder abuse, promote elder justice research and innovation, support Adult Protective Services systems, and provide additional protections for residents of long-term care facilities. The importance of these services at the State-level and local-level is demonstrated by the fact that States significantly leverage OAA funds to obtain other funding for these activities.

The Coronavirus Response and Relief Supplemental Appropriations Act of 2021 and the American Rescue Plan Act provided two years of Federal funding ($188 million in each year) to support, for the first time, the nationwide APS formula grant program authorized by the Elder Justice Act of 2010. That funding was used by States to expand or develop a variety of capabilities that were necessary to meet increased needs due to the public health pandemic, and ongoing funding is necessary to maintain the improved reach and effectiveness of APS systems beyond the pandemic.

The FY 2023 Omnibus Appropriations Bill provided, for the first time, an annual appropriation of $15 million to continue providing Federal formula grants to State APS programs. This will be the first time State entities are required to develop and submit State plans on Adult Protective Services under Section 2042 of the Elder Justice Act, 42 U.S.C. 1397m-1(b). However, States have developed spending plans for the formula funding received to date, consistent with 45 CFR 75.206(d), and to update those every three to five years.

This new Gen IC is for programmatic and financial management of the Aging and APS formula grants. The purpose of the State Plans and assurances is to document and provide the opportunity for public comment of achievements and planned activities for the multi-year plan period. A wide range of constituents use or will use the State Plans to coordinate, monitor, evaluate, and improve Aging Network and APS support services by using the State Plans as a blueprint for service planning and delivery.

Additionally, ACL leverages State Plans to understand the numerous services older adults use, and to utilize the information for advocating for the needs of older adults and those who use APS and for requesting additional funding. The purpose of the other financial forms that are a part of this Gen IC is to facilitate OAA formula grant management.

Financial forms provide statutorily required information regarding each State's contribution to programs to ensure compliance with legislative requirements, pertinent Federal regulations, and other applicable instructions and guidelines issued by ACL. This information will be used for Federal oversight of the Aging Programs. Based on ACL's extensive experience working with APS systems and OAA grantees on their State plans, ACL does not anticipate a significantly greater level of detail for the development of State plans for APS.

Since a new Gen IC does not permit the public to examine the details of each individual collection, the ACL Generic for Administration on Aging Formula Grant Programs 0985-New Proposed Gen IC Plan can be found on the ACL website for review and comment at: https://www.acl.gov/about-acl/public-input.

In accordance with the PRA 44 U.S.C. 3506(c)(2)(A); 44 U.S.C. 3507(a)(1)(D) ACL details the proposed Gen IC pertaining to:

• the method of collection;

• the category (or categories) of respondents;

• the estimated maximum number of burden hours (per year) for the specific information collections, and against which burden will be charged for each collection actually used;

• ACL's plans for how it will use the information collected; and

• ACL's internal procedures to ensure that the specific collections comply with the PRA, applicable regulations, and the terms of the generic clearance.

Estimated Program Burden: ACL estimates the burden of this collection of information as follows:

Estimated Annualized Burden Table
Respondent/data collection activity | Form | Number of respondents | Number of responses per respondent | Average burden hours per response | Total burden hours
State Unit on Aging (SUA) | State Plan on Aging | 14.7 | 1 | 80 | 1,176
State Entity for APS | State Plan on APS | 56 | 1 | 6 | 336
State Entity for APS | Required Assurances for APS (4) | 56 | 3 | 10 | 1,680
State Unit on Aging (SUA) | Financial Forms | 56 | 5 | 1 | 280
Total Estimated Burden |  |  |  |  | 3,472

Dated: October 12, 2023.
Alison Barkoff,
Senior official performing the duties of the Administrator and the Assistant Secretary for Aging.

[FR Doc. 2023-22956 Filed 10-17-23; 8:45 am]

BILLING CODE 4154-01-P